DEPARTMENT OF LABOR

Occupational Safety and Health Administration

[Docket No. NRTL-1-97]

Applied Research Laboratories, Inc., Expansion of Recognition

AGENCY: Occupational Safety and Health Administration (OSHA), Labor.

ACTION: Notice.

SUMMARY: This notice announces the Agency's final decision on the application of Applied Research Laboratories, Inc. (ARL), for expansion of its recognition as a Nationally Recognized Testing Laboratory (NRTL) under 29 CFR 1910.7.

EFFECTIVE DATE: This recognition becomes effective on April 10, 2000 and, unless modified in accordance with 29 CFR 1910.7, continues in effect while ARL remains recognized by OSHA as an NRTL.

FOR FURTHER INFORMATION CONTACT: Bernard Pasquet, Office of Technical Programs and Coordination Activities, NRTL Program, Occupational Safety and Health Administration, U.S. Department of Labor, 200 Constitution Avenue, NW, Room N3653, Washington, D.C. 20210, or phone (202) 693-2110.

SUPPLEMENTARY INFORMATION:

Notice of Final Decision

The Occupational Safety and Health Administration (OSHA) hereby gives notice of the expansion of recognition of Applied Research Laboratories, Inc. (ARL), as a Nationally Recognized Testing Laboratory (NRTL). ARL's expansion covers the use of the additional test standards and the additional programs, listed below.

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL. OSHA processes applications related to an NRTL's recognition following requirements in Appendix A to 29 CFR 1910.7. This appendix requires that the Agency publish this public notice of its final decision on an application.

ARL submitted a request, dated January 22, 1998 (see Exhibit 6A), to expand its recognition as an NRTL for 181 additional test standards. After performing an initial review of this request, the NRTL Program staff informed ARL that only 93 of the test standards met the requirements of an “appropriate test standard” set forth in 29 CFR 1910.7. In further processing the expansion request, the staff performed an on-site review of ARL's testing facility on June 8-11, 1998, and summarized the results of their evaluation in the on-site review report (see Exhibit 7). Following the review, ARL amended its application in a letter dated July 10, 1998 (see Exhibit 6B) to reduce the number of test standards requested to the 47 listed below. In its July 10 request, ARL also requested recognition for the additional programs.

The NRTL Program staff temporarily withheld its consideration of ARL's requests pending resolution by the NRTL of discrepancies noted during an audit that the staff performed at ARL's facility. ARL responded to these discrepancies in March 1999 and, after additional review, the NRTL Program staff accepted resolution of the discrepancies in September 1999, permitting OSHA to resume processing ARL's expansion request.

OSHA published the required notice in the Federal Register (64 FR 68388, 12/7/1999) to announce ARL's expansion application. The notice included a preliminary finding that ARL could meet the requirements for expansion of its recognition, and OSHA invited public comment on the application by February 7, 2000. OSHA received no comments concerning this application.

The most recent prior notices published by OSHA for ARL's recognition covered its initial recognition as an NRTL, which OSHA announced on August 8, 1997 (62 FR 42827), and granted on November 21, 1997 (62 FR 62356).

You may obtain or review copies of all public documents pertaining to the application by contacting the Docket Office, Occupational Safety and Health Administration, U.S. Department of Labor, 200 Constitution Avenue, NW, Room N2625, Washington, D.C. 20210, telephone: (202) 693-2350. You should refer to Docket No. NRTL-1-97, the permanent record of public information on the ARL recognition.

The current address of the facility (site) that OSHA recognizes for ARL is: Applied Research Laboratories, Inc., 5371 N.W. 161st Street, Miami, Florida 33014

Final Decision and Order

The NRTL Program staff has examined the application, the on-site review report (see Exhibit 7), and other pertinent information. Based upon this examination and the staff's recommendation, OSHA finds that the Applied Research Laboratories, Inc., facility listed above has met the requirements of 29 CFR 1910.7 for expansion of its recognition to include the additional test standards, listed below, subject to the limitations and conditions listed below. Pursuant to the authority in 29 CFR 1910.7, OSHA hereby expands the recognition of ARL, subject to these limitations and conditions.

Limitations

OSHA hereby expands the recognition of ARL for testing and certification of products to demonstrate conformance to the following forty seven (47) additional test standards. However, OSHA plans to include certain limitations on the recognition of some standards.

The Agency's recognition of ARL, or any NRTL, is always limited to equipment or materials (products) for which OSHA standards require third party testing and certification before use in the workplace. As a result, OSHA's recognition of an NRTL for a test standard excludes any product(s), falling within the scope of the test standard, for which OSHA has no such requirements. OSHA has determined that each standard listed below meets the requirements for an appropriate test standard prescribed in 29 CFR 1910.7(c).

Test Standards

¹ ANSI/ASME A17.5 Elevators and Escalator Electrical Equipment

ANSI Z21.1 Household Cooking Gas Appliances

ANSI Z83.7 Gas-Fired Construction Heaters

ANSI Z83.12 Gas Food Service Equipment—Baking and Roasting Ovens

ANSI Z83.18 Direct Gas-Fired Industrial Air Heaters

ANSI/UL 65 Electric Wired Cabinets

ANSI/UL 67 Electric Panelboards

ANSI/UL 73 Electric-Motor-Operated Appliances

UL 104 Elevator Door Locking Devices and Contacts

ANSI/UL 174 Household Electric Storage-Tank Water Heaters

UL 181 Factory-Made Air Ducts and Air Connectors

ANSI/UL 197 Commercial Electric Cooking Appliances

ANSI/UL 231 Power Outlets

ANSI/UL 325 Door, Drapery, Gate, Louver and Window Operator and Systems

UL 416 Refrigerated Medical Equipment

ANSI/UL 471 Commercial Refrigerators and Freezers

ANSI/UL 474 Dehumidifiers

ANSI/UL 499 Electric Heating Appliances

ANSI/UL 506 Specialty Transformers

ANSI/UL 508 Electric Industrial Control Equipment

UL 544 Electric Medical and Dental Equipment

ANSI/UL 555 Fire Dampers (previously Fire Dampers and Ceiling Dampers)

ANSI/UL 563 Ice Makers

UL 664 Commercial (Class IV) Electric Dry-Cleaning Machines

ANSI/UL 676 Underwater Lighting Fixtures

ANSI/UL 710 Exhaust Hoods for Commercial Cooking Equipment

UL 733 Oil-Fired Air Heaters and Direct-Fired Heaters

ANSI/UL 749 Household Electric Dishwashers

ANSI/UL 778 Motor-Operated Water Pumps

UL 795 Commercial-Industrial Gas-Heating Equipment

ANSI/UL 834 Heating, Water Supply, and Power Boilers—Electric

ANSI/UL 845 Motor Control Centers

ANSI/UL 935 Fluorescent-Lamp Ballasts

²ANSI/UL 1004 Electric Motors

ANSI/UL 1026 Electric Household Cooking and Food-Serving Appliances

ANSI/UL 1029 High-Intensity Discharge Lamp Ballasts

ANSI/UL 1081 Electric Swimming Pool Pumps, Filters and Chlorinators

³ANSI/UL 1262 Laboratory Equipment

ANSI/UL 1450 Motor-Operated Air Compressors, Vacuum Pumps and Painting Equipment

ANSI/UL 1570 Fluorescent Lighting Fixtures

ANSI/UL 1571 Incandescent Lighting Fixtures

ANSI/UL 1572 High Intensity Discharge Lighting Fixtures

ANSI/UL 1585 Class 2 and Class 3 Transformers

ANSI/UL 1996 Duct Heaters

UL 2021 Fixed and Location-Dedicated Electric Room Heaters

ANSI/UL 2157 Electric Clothes Washing Machines and Extractors

ANSI/UL 2158 Electric Clothes Dryers

¹Recognition under ANSI/ASME A17.5 is limited to cab construction and associated electrical equipment.

² Recognition under ANSI/UL 1004 is limited to 10HP maximum electric motors.

³ Recognition under ANSI/UL 1262 is limited to sample processing equipment.

The designations and titles of the above test standards were current at the time of the preparation of the preliminary notice, which announced ARL's application for expansion.

Programs and Procedures

OSHA is granting the request by ARL to use the two (2) supplemental programs, listed below, based upon the criteria detailed in the March 9, 1995 Federal Register notice (60 FR 12980, 3/9/95). This notice lists nine (9) programs and procedures (collectively, programs), eight of which an NRTL may use to control and audit, but not actually to generate, the data relied upon for product certification. An NRTL's initial recognition will always include the first or basic program, which requires that all product testing and evaluation be performed in-house by the NRTL that will certify the product. For ARL, the initial recognition also included use of Program 4 (Acceptance of witnessed testing data). The on-site review report indicates that ARL meets the criteria for use of the following additional supplemental programs:

Program 2: Acceptance of testing data from independent organizations, other than NRTLs.

Program 9: Acceptance of services other than testing or evaluation performed by subcontractors or agents.

OSHA developed the program descriptions to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, OSHA does treat these programs as one of the three elements that defines an NRTL's scope of recognition.

Under Appendix A to 1910.7, the Agency has no obligation to provide notice of recognition for these programs. However, The NRTL Program staff has typically included such recognition in a notice when the NRTL has requested it in conjunction with a regular application. When processing an NRTL's request solely to use one or more supplemental programs, the NRTL Program staff informs the NRTL of the decision to grant or deny the request by letter only. If granted, the staff includes the additional program(s) in OSHA's web page for each NRTL.

Conditions

Applied Research Laboratories, Inc., must also abide by the following conditions of the recognition, in addition to those already required by 29 CFR 1910.7:

OSHA must be allowed access to ARL's facilities and records for purposes of ascertaining continuing compliance with the terms of its recognition and to investigate as OSHA deems necessary;

If ARL has reason to doubt the efficacy of any test standard it is using under this program, it must promptly inform the organization that developed the test standard of this fact and provide that organization with appropriate relevant information upon which its concerns are based;

ARL must not engage in or permit others to engage in any misrepresentation of the scope or conditions of its recognition. As part of this condition, ARL agrees that it will allow no representation that it is either a recognized or an accredited Nationally Recognized Testing Laboratory (NRTL) without clearly indicating the specific equipment or material to which this recognition is tied, or that its recognition is limited to certain products;

ARL must inform OSHA as soon as possible, in writing, of any change of ownership, facilities, or key personnel, and of any major changes in its operations as an NRTL, including details;

ARL will continue to meet all the terms of its recognition and will always comply with all OSHA policies pertaining to this recognition;

ARL will continue to meet the requirements for recognition in all areas where it has been recognized; and

ARL will always cooperate with OSHA to assure compliance with the spirit as well as the letter of its recognition and 29 CFR 1910.7.

Signed at Washington, D.C. this 3rd day of April, 2000.
Charles N. Jeffress,
Assistant Secretary.

[FR Doc. 00-8775 Filed 4-7-00; 8:45 am]

BILLING CODE 4510-26-P